OFFICE OF PERSONNEL MANAGEMENT

Submission for OMB Review; Comment Request for Reclearance of a Revised Information Collection: RI 92-19

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for reclearance of a revised information collection. RI 92-19, Application for Deferred or Postponed Retirement: Federal Employees' Retirement System (FERS), is used by separated employees to apply for either a deferred or a postponed FERS annuity benefit.

Approximately 1,539 forms are completed annually. The form takes approximately 60 minutes to complete. The annual estimated burden is 1,539 hours.

For copies of this proposal, contact Mary Beth Smith-Toomey on (202) 606-8358, FAX (202) 418-3251 or via e-mail to mbtoomy@opm.gov. Please include a mailing address with your request.

DATES: Comments on the proposal should be received on or before April 23, 2004.

ADDRESSES: Send or deliver comments to—Ronald W. Melton, Chief, Operations Support Group, Retirement Services Program, U.S. Office of Personnel Management, 1900 E Street, NW., Room 3349, Washington, DC 20415-3540, and Joseph Lackey, OPM Desk Officer, Office of Information & Regulatory Affairs, Office of Management & Budget, New Executive Office Building, NW., Room 10235, Washington, DC 20503.

For Information Regarding Administrative Coordination—Contact: Cyrus S. Benson, Team Leader, Publications Team, Support Group, (202) 606-0623.

Office of Personnel Management.
Kay Coles James,
Director.

[FR Doc. 04-6520 Filed 3-23-04; 8:45 am]

BILLING CODE 6325-38-P